FEDERAL ELECTION COMMISSION

Sunshine Act Notices

Date And Time: Tuesday, October 17, 2006 at 10 a.m.

Place: 999 E Street, NW., Washington, DC.

Status: This meeting will be closed to the public.

Items to be Discussed: Compliance matters pursuant to 2 U.S.C. 437g. Audits conducted pursuant to 2 U.S.C. 437g, 438(b), and Title 26, U.S.C. Matters concerning participation in civil actions or proceedings or arbitration. Internal personal rules and procedures or matters affecting a particular employee.

Date And Time: Wednesday, October 18, 2006 at 10 a.m.

Place: 999 E Street, NW., Washington, DC (Ninth floor).

Status: This meeting will be open to the public.

Items to be Discussed: Correction and Approval of Minutes.

Advisory Opinion 2006-27: Prime Choice Entertainment by Cynthia Czuchaj.

Advisory Opinion 2006-28: 59th Republican Ward Executive Committee by Peter J. Wirs, Chairman. Embezzlement Enforcement Policy. Management and Administrative Matters.

Person to Contact for Information: Mr. Robert Biersack, Press Officer.

Mary W. Dove,
Secretary of the Commission.

[FR Doc. 06-8679 Filed 10-11-06; 9:57 am]

BILLING CODE 6715-01-M